DEPARTMENT OF ENERGY

Federal Energy Regulatory Commission

Sunshine Act Meeting

Agency Holding Meeting: Federal Energy Regulatory Commission.

Federal Register Citation of Previous Announcement: January 28, 2002, 67 FR 3894.

Previously Announced Time and Date of Meeting: January 30, 2002 10 a.m.

Change in the Meeting: The following Docket No. has been added to Item E-42 on the Commission Meeting of January 30, 2002.

Item No., Docket No., and Company

E-42—ER02-788-000, Gulf Power Company

Magalie R. Salas,
Secretary.

[FR Doc. 02-2716 Filed 1-31-02; 2:07 pm]

BILLING CODE 6717-01-P